DEPARTMENT OF HEALTH AND HUMAN SERVICES

National Institutes of Health

National Institute on Aging; Notice of Meeting

Pursuant to section 10(d) of the Federal Advisory Committee Act, as amended (5 U.S.C. Appendix 2), notice is hereby given of a meeting of the National Advisory Council on Aging.

The meeting will be open to the public as indicated below, with attendance limited to space available. Individuals who plan to attend and need special assistance, such as sign language interpretation or other reasonable accommodations, should notify the Contact Person listed below in advance of the meeting.

The meeting will be closed to the public in accordance with the provisions set forth in sections 552b(c)(4) and 552b(c)(6), Title 5 U.S.C., as amended. The grant applications and/or contract proposals and the discussions could disclose confidential trade secrets or commercial property such as patentable material, and personal information concerning individuals associated with the grant applications and/or contract proposals, the disclosure of which would constitute a clearly unwarranted invasion of personal privacy.

Name of Committee: National Advisory Council on Aging.

Date: February 9, 2000.

Open: 8 a.m. to 11 a.m.

Agenda: Call to Order; Review of NIA's Minority Aging Programs Report; Working Group on Program; and Review of the Intramural Program—Laboratory of Neuroscience.

Place: Natcher Building, Conference Room D, 45 Center Drive, Bethesda, MD 20892.

Closed: 11 a.m. to 11:45 a.m.

Agenda: To review and evaluate the Intrumural program.

Place: Natcher Building, Conference Room D, 45 Center Drive, Bethesda, MD 20892.

Open: 12:45 p.m. to 2:45 p.m.

Agenda: Discussion of Peer Review Issues and Program Highlights

Place: Natcher Building, Conference Room D, 45 Center Drive, Bethesda, MD 20892.

Closed: 3 p.m. to Adjournment.

Agenda: To review and evaluate applications.

Place: Natcher Building, Conference Room D. 45 Center Drive, Bethesda, MD 20892

Contact Person: Miriam F. Kelty, PHD, Director, Office of Extramural Affairs, National Institute on Aging, National Institutes of Health, 7201 Wisconsin Avenue, Suite 2C218, Bethesda, MD 20892, 301-496-9322.

(Catalogue of Federal Domestic Assistance Program Nos. 93.866, Aging Research, National Institutes of Health, (HHS)

Dated: January 11, 2000.
LaVerne Y. Stringfield,
Director, Office of Federal Advisory Committee Policy.

[FR Doc. 00-1138 Filed 1-18-00; 8:45 am]

BILLING CODE 4140-01-M